DEPARTMENT OF HOMELAND SECURITY

Federal Emergency Management Agency

[Docket ID: FEMA-2017-0026; OMB No. 1660-NW103]

Agency Information Collection Activities; Proposed Information Collection; Comment Request; Federal Emergency Management Agency Programs Customer Satisfaction Surveys

AGENCY: Federal Emergency Management Agency (FEMA), DHS.

ACTION: Notice of new information collection; request for comments.

SUMMARY: The Federal Emergency Management Agency (FEMA), as part of its continuing effort to reduce paperwork and respondent burden, invites the general public and other Federal agencies to comment on a new information collection to replace a currently approved information collection. In accordance with the Paperwork Reduction Act of 1995, this notice seeks comments concerning the collection of Individual Assistance customer satisfaction survey responses and information for assessment and improvement of the delivery of disaster assistance to individuals and households.

DATES: Comments must be submitted on or before August 29, 2017.

ADDRESSES: To avoid duplicate submissions to the docket, please use only one of the following means to submit comments:

(1) Online. Submit comments at www.regulations.gov under Docket ID FEMA-2017-0026. Follow the instructions for submitting comments.

(2) Mail. Submit written comments to Docket Manager, Office of Chief Counsel, DHS/FEMA, 500 C Street SW., Room 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Jessica Guillory, Statistician, Customer Survey & Analysis Section, Recovery Directorate, FEMA at Jessica.Guillory@fema.dhs.gov, 940-891-8528. You may contact the Records Management Division for copies of the proposed collection of information at email address: FEMA-Information-Collections-Management@fema.dhs.gov.

SUPPLEMENTARY INFORMATION: This collection is in accordance with Executive Orders 12862 and 13571 requiring all Federal agencies to survey customers to determine the kind and quality of services they want and their level of satisfaction with existing services. The Government Performance and Results Act (GPRA) (Pub. L. 103-62, 107 Stat. 285) requires agencies to set missions and goals and measure performance against them. In addition, the GPRA Modernization Act of 2010 (Pub. L. 111-352, 124 Stat. 3866) requires quarterly performance assessments of government programs for the purposes of assessing agency performance and improvement. FEMA will fulfill these requirements by collecting customer satisfaction program information through surveys of the Recovery Directorate's external customers.

Collection of Information

Title: Federal Emergency Management Agency Programs Customer Satisfaction Surveys.

Type of Information Collection: New information collection.

OMB Number: 1660-NW103.

FEMA Forms: FEMA Form 519-0-45, Preparedness Survey—Electronic; FEMA Form 519-0-44, Preparedness Survey—Phone; FEMA Form 519-0-47, Transitional Sheltering Assistance (TSA) Survey—Electronic; FEMA Form 519-0-46, Transitional Sheltering Assistance (TSA) Survey—Phone; FEMA Form 519-0-49, Temporary Housing Units (THU) Survey—Electronic; FEMA Form 519-0-48, Temporary Housing Units (THU) Survey—Phone; FEMA Form 519-0-51, Shelter and Temporary Essential Power (STEP) Survey—Electronic; FEMA Form 519-0-50, Shelter and Temporary Essential Power (STEP) Survey—Phone.

Abstract. Federal agencies are required to survey their customers to determine the kind and quality of services customers want and their level of satisfaction with those services. Analysis from the survey is used to measure FEMA's survivor-centric mission of being accessible, simple, timely and effective in meeting the needs of survivors.

Affected Public: Individuals and households.

Number of Respondents: 8,896.

Number of Responses: 8,896.

Estimated Total Annual Burden Hours: 5,548.

Estimated Cost: The estimated annual burden hour cost to respondents is $193,292. The estimated annual non-labor cost to respondents participating and traveling to focus groups is $30,816. There are no annual costs to respondents' operations and maintenance costs for technical services. There are no annual start-up or capital costs. The cost to the Federal Government is $716,338.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: June 26, 2017.
Tammi Hines,
Records Management Program Chief (Acting), Mission Support, Federal Emergency Management Agency, Department of Homeland Security.

[FR Doc. 2017-13699 Filed 6-29-17; 8:45 am]

BILLING CODE 9111-23-P